DEPARTMENT OF THE INTERIOR

Bureau of Reclamation

Windy Gap Firming Project; Colorado-Big Thompson Project, Grand and Larimer Counties, CO

AGENCY: Bureau of Reclamation, Interior.

ACTION: Notice of Availability of the Draft Environmental Impact Statement (Draft EIS) and Announcement of Public Hearings.

SUMMARY: Pursuant to section 102(2)(C) of the National Environmental Policy Act, the Bureau of Reclamation (Reclamation) has completed the Windy Gap Firming Project Draft EIS. It is now available for public review and comment. Two public hearings are scheduled during the comment period. The Draft EIS describes and discloses the estimated environmental effects of five alternatives, including a no action alternative and four action alternatives that accomplish the purpose and need for the project.

The U.S. Army Corps of Engineers (Corps), the Western Area Power Administration (Western), and the Board of County Commissioners, Grand County, Colorado (Grand County) are cooperating agencies that are providing assistance in the preparation of the Environmental Impact Statement (EIS) under the National Environmental Policy Act.

DATES: A 60-day public comment period begins with the publication of this notice. Written comments on the Draft ES are due by October 28, 2008 and should be submitted to Reclamation listed in the ADDRESSES section. Public hearings will be held during October 2008 in Colorado. See the SUPPLEMENTARY INFORMATION section for dates of the public hearings.

ADDRESSES: Comments on the Draft EIS should be sent to the attention of Will Tully, Bureau of Reclamation, 11056 West County Rd. 18E, Loveland, CO 80537. Comments may also be submitted in writing by fax, e-mail, or at the public hearings. Send faxes to the attention of Will Tully at 970-663-3212. Send e-mail to wtully@gp.usbr.gov with Windy Gap Draft EIS Comment as the subject line.

Copies of the Draft EIS and related documents are available online from Reclamation's Web site at http://www.usbr.gov/gp/nepa/quarterly.cfm. Paper copies of the Draft EIS may be obtained by calling Kara Lamb at 970-962-4326. Refer to the SUPPLEMENTARY INFORMATION section for locations of libraries at which copies of the Draft EIS are available for review.

FOR FURTHER INFORMATION CONTACT: Kara Lamb at 970-962-4326 or klamb@gp.usbr.gov or Will Tully at 970-962-4368 or wtully@gp.usbr.gov. Mail requests should be addressed to the Bureau of Reclamation at the address indicated in the ADDRESSES section.

SUPPLEMENTARY INFORMATION: Reclamation will hold public hearings, preceded by an open house, to receive oral and written comments on the Draft EIS at the following times and places:

• October 7, 2008, open house at 6 p.m., public hearing at 7 p.m., McKee Conference Center, 2000 Boise Avenue, Loveland, CO 80538, (ph. 970-669-4640).

• October 9, 2008, open house at 5 p.m., public hearing at 7 p.m., Inn at Silver Creek, 62927 U.S. Highway 40, Granby, CO 80446, (ph. 970-887-4080).

Public Hearing Process Information: Each public hearing will be preceded by an open house hosted by Reclamation to display project information and allow for questions. The meeting facilities are physically accessible to people with disabilities. People needing special assistance to attend and participate in the public hearings should contact Ms. Kara Lamb at 970-962-4326 as soon as possible. To allow sufficient time to process special requests, please call no later than one week before the public hearing of interest.

The purpose of the public hearings is to provide the public with an opportunity to comment on information presented in the Draft EIS. Oral comments may be limited to a specified period of time if deemed necessary by Reclamation to complete the hearing in an appropriate period of time. Written comments will also be accepted at the hearings. Information regarding this proposed action is available in alternative formats upon request.

Locations where the Draft EIS may be reviewed:

• Eastern Colorado Area Office, 11056 W. County Rd. 18E, Loveland, CO 80537 970-962-4410.

• Corps of Engineers, Chatfield Reservoir Office, 9307 South Wadsworth Blvd., Littleton, CO 80128.

• Morgan Library, Colorado State University, 501 University Avenue Fort Collins, CO 80523-1019.

• Berthoud, Berthoud Public Library, 236 Welch Avenue.

• Broomfield, Mamie Eisenhower Public Library, 3 Community Park Road.

• Ft. Collins, Fort Collins Public Library, 201 Peterson Street.

• Ft. Lupton, Ft. Lupton Public Library, 425 South Denver Avenue.

• Granby, Granby Branch Library, 13 East Jasper Avenue.

• Grand Lake, Juniper Library, 316 Garfield Street.

• Greeley, Centennial Park Branch, Weld Library District, 2227 23rd Avenue.

• Greeley, Fart Branch, Weld Library District, 1939 61st Avenue.

• Greeley, Lincoln Park Branch, Weld Library District, 919 7th Street.

• Hot Sulphur Springs, Hot Sulphur Springs Branch Library, 105 Moffat.

• Kremmling, Kremmling Branch Library, 300 South 8th Street.

• Longmont, Longmont Public Library, 409 4th Avenue.

• Louisville, Louisville Public Library, 950 Spruce St.

• Loveland, Loveland Public Library, 300 North Adams Avenue.

• Lyons, Lyons Depot Library, 5th and Broadway.

Background: The Bureau of Reclamation (Reclamation) has received a proposal from the Municipal Sub-district, Northern Colorado Water Conservancy District, acting by and through the Windy Gap Firming Project Water Activity Enterprise (Sub-district or Applicant) to improve the firm yield of the existing Windy Gap Project by constructing the Windy Gap Firming Project (WGFP). Firm yield is defined by the Sub-district as the yield that can be provided by the project each year of the study period without shortages. The proposal includes a connection of WGFP facilities to the Colorado-Big Thompson Project (C-BT) and construction of a new dam and reservoir dedicated to the storage of Windy Gap and C-BT water, and under the Proposed Action (Alternative 2), for the storage of C-BT water in the proposed 90,000 acre-foot Chimney Hollow Reservoir under the concept of prepositioning. The major Federal actions triggering the need for this EIS are that Reclamation must authorize a connection to C-BT facilities and approve any required amendment or change to the Amendatory Carriage contract (Contract No. 407-70-W0107) dated March 1, 1990; the Corps of Engineers must issue a 404 permit if a dam is constructed that requires placement of fill within a water of the United States; and the Western Area Power Administration must relocate a portion of a utility line for two of the alternatives being considered.

Purpose and Need for the Action: When constructed in the early 1980s, it was anticipated by the Sub-district and Reclamation that the Windy Gap Project would divert a long-term annual average of 56,000 acre-feet per year from the Colorado River. In 1981, Reclamation completed an EIS on approving the use of C-BT facilities to transport Windy Gap diversions to eastern slope participants. Reclamation subsequently entered into contracts for the storage and transport of Windy Gap water through the C-BT system. In practice, the project has been unable to provide the expected yield due to Windy Gap's junior water right and to provisions in the current agreements that protect the yield of the C-BT system. Current agreements stipulate that whenever Windy Gap water remains in the C-BT system, any water required to be spilled from Granby Reservoir is considered to be Windy Gap water. When Granby Reservoir is full or anticipated to spill, space is not available for Windy Gap water. The Sub-district estimates the firm yield of the Windy Gap Project is zero because the project is unable to deliver water to the participants in all years. The Windy Gap Firming Project is seeking to provide 30,000 acre-feet of firm yield from the Windy Gap Project that will be available to the participants in all years. This would result in a long term average annual gross diversion of about 46,000 acre-feet per year compared to the 13,829 acre-feet of average annual diversions that have been made by the Windy Gap Project from 1985 to 2007 and the originally anticipated 56,000 acre-feet per year as analyzed in the 1981 EIS. All of the alternatives except the No Action alternative require a connection to C-BT Project facilities and all except the No Action alternative require a Section 404 permit from the Corps of Engineers. Two of the four action alternatives require relocation of a power line by the Western Area Power Administration. Grand County is a cooperating agency due to its permitting authority under the County's 1041 regulations. Alternatives: The Draft EIS discloses the anticipated effects of four action alternatives and the No Action alternative. The alternatives evaluated in the EIS include:

• Alternative 1 (No Action)—Continuation of existing operations and agreements between Reclamation and the Sub-district for conveyance of Windy Gap water through C-BT facilities and enlargement of Longmont's Ralph Price Reservoir by approximately 13,000 acre-feet.

• Alternative 2 (Proposed Action)—Chimney Hollow Reservoir (90,000 AF) with prepositioning.

• Alternative 3—Chimney Hollow Reservoir (70,000 AF) and Jasper East Reservoir (20,000 AF).

• Alternative 4—Chimney Hollow Reservoir (70,000 AF) and Rockwell/Mueller Creek Reservoir (20,000 AF).

• Alternative 5—Dry Creek Reservoir (60,000 AF) and Rockwell/Mueller Creek Reservoir (30,000 AF).

The No Action alternative is defined as what would happen if Reclamation declines to allow the proposed connection to C-BT facilities. It includes continuation of the existing Windy Gap agreement between Reclamation and the Sub-district and other predictable actions the participants would take individually to firm their Windy Gap units. Public Disclosure Statement: Before including your name, address, telephone number, e-mail address, or other personal identifying information in your comment, you should be aware that your entire comment—including your personal identifying information—may be made publicly available at any time. While you can ask us in your comment to withhold your personal identifying information from public review, we cannot guarantee that we will be able to do so.

Dated: August 22, 2008.
Michael J. Ryan,
Regional Director, Great Plains Region.

[FR Doc. E8-19829 Filed 8-28-08; 8:45 am]

BILLING CODE 4310-MN-P